DEPARTMENT OF THE INTERIOR

Fish and Wildlife Service

[FWS-R4-ES-2017-N154; FXES11140400000-178-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given in ADDRESSES by February 26, 2018.

ADDRESSES:

Reviewing Documents: Documents and other information submitted with the applications are available for review, subject to the requirements of the Privacy Act and Freedom of Information Act, by any party who submits a written request for a copy of such documents to the following office within 30 days of the date of publication of this notice (see DATES): U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: U.S. Fish and Wildlife Service's Regional Office (see above).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; ESA), and our regulations in the Code of Federal Regulations (CFR) at 50 CFR part 17. With some exceptions, the ESA prohibits activities with listed species unless a Federal permit is issued that allows such activities. The ESA requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications
Permit application No. | Applicant | Species/numbers | Location | Activity | Type of take | Permit action
TE 125521-3 | Department of Natural and Environmental Resources, San Juan, PR | Puerto Rican parrot (Amazona vittata)/1-2 eggs per year and 1-2 chicks per year | Puerto Rico | Captive propagation and reintroduction | Collect eggs from wild nests for hatching and rearing in captivity and remove sick chicks from wild for veterinary treatment | Renewal.
TE 132409-2 | Gary R. O'Neill, Jr., Camden, AR | Red-cockaded woodpecker (Picoides borealis) | Arkansas and Louisiana | Population enhancement, management, and monitoring | Construct and install artificial nest cavities and restrictors; monitor nest cavities | Renewal and Amendment.
TE 56430B-2 | Jonathan R. Hootman, Mayking, KY | Gray bat (Myotis grisescens) | Alabama, Arkansas, Florida, Georgia, Illinois, Indiana, Kansas, Kentucky, Mississippi, Missouri, North Carolina, Oklahoma, Tennessee, Virginia | Presence/absence surveys | Enter hibernacula, salvage dead bats, capture with mist nets or harp traps, handle, identify, collect hair samples, band, radio-tag, swab, and wing-punch | Amendment.
TE 14105A-2 | Breedlove, Dennis, and Associates, Inc., Winter Park, FL | Red-cockaded woodpecker (Picoides borealis) | Alabama, Arkansas, Florida, Georgia, Louisiana, Mississippi, North Carolina, South Carolina | Population enhancement, management, and monitoring | Construct and monitor artificial nest cavities and restrictors, monitor nest cavities, capture, band, and translocate | Renewal and Amendment.
TE 56827C-0 | De Soto National Forest, Wiggins, MS | Isoetes louisianensis (Louisiana quillwort), Schwalbea americana (American chaffseed), and Lindera melissifolia (pondberry) | National Forests in Mississippi | Species identification and confirmation, genetic studies and preservation, and reproduction studies | Remove and reduce to possession (collect) whole and/or partial plants, seeds and spore-bearing and non-spore-bearing sporophylls | New.

Authority: We provide this notice under section 10(c) of the Act.

Leopoldo Miranda,
Assistant Regional Director, Ecological Services, Southeast Region.

[FR Doc. 2018-01570 Filed 1-26-18; 8:45 am]

BILLING CODE 4333-15-P